JOINT BOARD FOR THE ENROLLMENT OF ACTUARIES

Meeting of the Advisory Committee

AGENCY: Joint Board for the Enrollment of Actuaries.

ACTION: Notice of Federal Advisory Committee meeting.

SUMMARY: The Executive Director of the Joint Board for the Enrollment of Actuaries gives notice of a closed meeting of the Advisory Committee on Actuarial Examinations at William M. Mercer, Incorporated Boston, MA on October 2, 2000.

DATES: The meeting will be held on October 2, 2000 from 8:30 AM to 5:00 PM.

ADDRESSES: The meeting will be held at William M. Mercer, Incorporated, at 200 Clarendon Street, 37th Floor, Boston, MA.

FOR FURTHER INFORMATION CONTACT: Patrick W. McDonough, Director of Practice and Executive Director of the Joint Board for the Enrollment of Actuaries, 202-694-1891.

SUPPLEMENTARY INFORMATION: Notice is hereby given that the Advisory Committee on Actuarial Examinations will meet at William M. Mercer, Incorporated, 200 Clarendon Street, 37th Floor, Boston, MA on Monday, October 2, 2000 from 8:30 AM to 5:00 PM.

The purpose of the meeting is to discuss topics and questions, which may be recommended for inclusion on future Joint Board examinations in actuarial mathematics, pension law and methodology referred to in 29 U.S.C. 1242(a)(1)(B).

A determination has been made as required by section 10(d) of the Federal Advisory Committee Act (Pub. L. 92-463) that the subject of the meeting falls with the exception to the open meeting requirement set forth in Title 5 U.S.C. 552b(c)(9)(B), and that the public interest requires that such meeting be closed to public participation.

Dated: August 14, 2000.
Patrick W. McDonough,
Executive Director, Joint Board for the Enrollment of Actuaries.

[FR Doc. 00-22214 Filed 8-29-00; 8:45 am]

BILLING CODE 4830-01-P